Title 3—

The President

Proclamation 8046 of September 5, 2006

National Days of Prayer and Remembrance, 2006

By the President of the United States of America

A Proclamation

This year, we mark the fifth anniversary of the brutal and ruthless terrorist attacks carried out against our Nation on September 11, 2001. We will always remember the thousands of lives lost, and the innocent men, women, and children forever changed by those acts of evil. During these National Days of Prayer and Remembrance, we honor the heroism of the police officers, firefighters, rescue personnel, members of the military, and private citizens who responded selflessly in the face of terror. We also honor the courage and spirit of the mothers and fathers, sons and daughters, brothers and sisters, and husbands and wives who continue to grieve for their irreplaceable loss.

As we pray for the families of the victims and reflect upon that defining moment in our history, we are inspired by the knowledge that from the pain and sorrow of that September morning rose a Nation united by our love for freedom. We remember that we are a people determined to defend our way of life and to care for our neighbors in need. The scenes of distress and devastation we witnessed in the heart of New York City, at the Pentagon, and in Pennsylvania were overcome by sacrifice, bravery, and compassion. We resolved to answer history's call to bring justice to our enemies and to ensure the survival and success of liberty. Since that day, we have confronted a murderous ideology by taking the fight to our adversaries and by spreading the universal hope of freedom to millions around the world.

We are grateful for the service and sacrifice of the men and women of our Armed Forces who are advancing liberty and protecting our country, and we pray for their safety. We ask that God continue to comfort the families of those who have lost their lives or who have been injured while defending our freedom. We will succeed in this struggle against evil, and the legacy of peace we leave behind will be the greatest memorial to the victims of September 11, 2001, and all those who have paid the ultimate price while wearing our Nation's uniform.

On these Days of Prayer and Remembrance, we mourn with those who still mourn, and find comfort through faith. We give thanks to the Almighty for our liberty, and we pray for His blessing on all those who were lost and for strength in the work ahead. May God continue to watch over the United States of America, and may His will guide us in the days to come.

NOW, THEREFORE, I, GEORGE W. BUSH, President of the United States of America, by virtue of the authority vested in me by the Constitution and laws of the United States, do hereby proclaim Friday, September 8, through Sunday, September 10, 2006, as National Days of Prayer and Remembrance. I ask that the people of the United States and their places of worship mark these National Days of Prayer and Remembrance with memorial services, the ringing of bells, and evening candlelight remembrance vigils. I also invite the people of the world to share in these Days of Prayer and Remembrance.

IN WITNESS WHEREOF, I have hereunto set my hand this fifth day of September, in the year of our Lord two thousand six, and of the Independence of the United States of America the two hundred and thirty-first.

[FR Doc. 06-7593

Filed 9-7-06; 11:40 am]

Billing code 3195-01-P